DEPARTMENT OF COMMERCE

Public Comments and Public Hearing on Section 232 National Security Investigation of Imports of Automobiles, Including Cars, SUVs, Vans and Light Trucks, and Automotive Parts; Extension of Comment Period

AGENCY: U.S. Department of Commerce.

ACTION: Notice of request for public comments and public hearing; extension of comment period.

SUMMARY: In response to requests for additional time, the Department of Commerce is extending the comment period for the notice of request for public comments and public hearing that was published in the Federal Register on May 30, 2018. In the notice, the Department requested written comments, data, analyses, or other information pertinent to the investigation to determine the effects on the national security of imports of automobiles, including cars, SUVs, vans and light trucks, and automotive parts. Through this notice, the Department extends the comment period to June 29, 2018 and the rebuttal period to July 13, 2018. Requests to appear at the hearings are also now due June 29, 2018.

DATES: The due date for filing comments, for requests to appear at the public hearing, and for submissions of a summary of expected testimony at the public hearing is June 29, 2018.

The due date is July 13, 2018 for rebuttal comments submitted in response to any comments filed on or before June 29, 2018.

The public hearings will be held on July 19 and 20, 2018. The hearings will begin at 8:30 a.m. local time and conclude at 5:00 p.m. local time, each day.

ADDRESSES:

Written comments: All written submissions must be in English and must be addressed to Section 232 Automobile and Automotive Parts Imports Investigation, and filed through the Federal eRulemaking Portal: http://www.regulations.gov. To submit comments via www.regulations.gov, enter docket number DOC-2018-0002 on the home page and click “search.” The site will provide a search results page listing all documents associated with this docket. Find a reference to this notice and click on the link entitled “Comment Now!” (For further information on using www.regulations.gov, please consult the resources provided on the website by clicking on “How to Use This Site” on the left side of the home page). For alternatives to on-line submissions, please contact Sahra Park-Su at (202) 482-2811.

FOR FURTHER INFORMATION CONTACT: Sahra Park-Su, U.S. Department of Commerce (202) 482-2811. For more information about the section 232 program, including the regulations and the text of previous investigations, see www.bis.doc.gov/232.

SUPPLEMENTARY INFORMATION: On May 30, 2018, the Secretary of Commerce (“Secretary”) issued a request for public comment on an investigation under section 232 of the Trade Expansion Act of 1962, as amended (19 U.S.C. 1862), to determine the effects on the national security of imports of automobiles, including cars, SUVs, vans and light trucks, and automotive parts (83 FR 24735). The Department of Commerce is extending the comment period on the notice published from June 22, 2018 to June 29, 2018. In addition, the Department of Commerce is extending the due date for rebuttal comments submitted in response to any comments filed on or before June 29, 2018 to July 13, 2018. The dates and location for the public hearings as well as other instructions to commenters remain unchanged. The Department believes that a 7-day extension for comments allows adequate additional time for interested persons to submit comments while still allowing this national security investigation to proceed expeditiously.

Wilbur L. Ross,
Secretary of Commerce.

[FR Doc. 2018-13462 Filed 6-19-18; 4:15 pm]

BILLING CODE 3510-17-P